DEPARTMENT OF THE INTERIOR

National Park Service

General Management Plan, Final Environmental Impact Statement, Chiricahua National Monument, AZ

AGENCY: National Park Service, Department of the Interior.

ACTION: Availability of Final Environmental Impact Statement and General Management Plan for Chiricahua National Monument.

SUMMARY: Pursuant to section 102(2)(C) the National Environmental Policy Act of 1969, the National Park Service announces the availability of a Final Environmental Impact Statement and General Management Plan (FEIS/GMP) for Chiricahua National Monument, Arizona.

DATES: The DEIS/GMP was on public review from November 5, 1999, through January 15, 2000. Responses to public comment are addressed in the FEIS/GMP.

ADDRESSES: Copies of the FEIS/GMP are available from the Superintendent Chiricahua National Monument, Dos Cabezas Route, Box 6500, Willcox, Arizona 85643-9737. Public reading copies of the FEIS/GMP will be available for review at the following locations:

Office of the Superintendent, Chiricahua National Monument, Dos Cabezas Route, Box 6500, Willcox, Arizona 85643-9737, Telephone: 520-824-3560

Planning and Environmental Quality, Intermountain Support Office—Denver, National Park Service, P.O. Box 25287, Denver, CO 80225-0287, Telephone: (303) 969-2851

Office of Public Affairs, National Park Service, Department of the Interior 18th and C Streets NW, Washington, D.C. 20240, Telephone: (202) 208-6843

Reading copies are also available online at the park's planning website at http://www.nps.gov/planning/chir.

SUPPLEMENTARY INFORMATION: The FEIS/GMP analyzes 3 alternatives to identify and assess the various management alternatives and related environmental impacts relative to park operations, visitor use and access, natural and cultural management, and general development at the monument. The general management plan would guide the management of the Chiricahua National Monument for the next 12 to 15 years. Alternative A, The National Park Service proposal, identified as one of the alternatives, would retain most existing visitor experiences and would construct a new headquarters/visitor orientation/administrative area just outside park boundaries. Alternative B provides for a traditional park experience with increased personal services and a small number of facility enhancements. The No-Action Alternative would maintain visitor services and resource protection at current limited levels throughout the life of the plan.

The FEIS/GMP in particular evaluates the environmental consequences of the proposed action and the other alternatives on visitor experience, cultural resources, long-term health of natural ecosystems, economic contribution to gateway communities, adjacent landowners, and operational efficiency.

FOR FURTHER INFORMATION CONTACT: Superintendent, Chiricahua National Monument, at the above address and telephone number.

Dated: March 2, 2001.
Michael D. Snyder,
Director, Intermountain Region, National Park Service.

[FR Doc. 01-7375 Filed 3-23-01; 8:45 am]

BILLING CODE 4310-70-P